DEPARTMENT OF ENERGY

Federal Energy Regulatory Commission

[Docket No. EG02-159-000, et al.]

Delaware Mountain Wind Farm, LP, et al.; Electric Rate and Corporate Regulation Filings

July 3, 2002.

The following filings have been made with the Commission. The filings are listed in ascending order within each docket classification.

1. Delaware Mountain Wind Farm, LP

[Docket No. EG02-159-000]

Take notice that on June 26, 2002, Delaware Mountain Wind Farm, LP (the Applicant), with its principal office at National Windpower plc, Riverside House, Meadowbank Furlong Road, Bourne End, Bucks UK—SL8 5AJ, filed with the Federal Energy Regulatory Commission (Commission) an application for determination of exempt wholesale generator status pursuant to Part 365 of the Commission's regulations.

Applicant states that it is a limited partnership engaged directly and exclusively in the business of owning and operating an approximately 30 MW wind-powered generation facility located in Culberson County, Texas. Electric energy produced by the facility will be sold at wholesale.

Comment Date: July 24, 2002.

2. Pennsylvania Windfarms, Inc.

[Docket No. EG02-160-000]

Take notice that on June 26, 2002, Pennsylvania Windfarms, Inc. (the Applicant), with its principal office at National Windpower plc, Riverside House, Meadowbank Furlong Road, Bourne End, Bucks UK—SL8 5AJ, filed with the Federal Energy Regulatory Commission (Commission) an application for determination of exempt wholesale generator status pursuant to Part 365 of the Commission's regulations.

Applicant states that it is a Delaware corporation engaged directly and exclusively in the business of owning and operating an approximately 10.4 MW wind-powered generation facility located in Somerset County, Pennsylvania. Electric energy produced by the facility will be sold at wholesale.

Comment Date: July 24, 2002.

3. Baconton Power LLC

[Docket No. EG02-161-000]

Take notice that on June 26, 2002, Baconton Power LLC , 1499 38th Blvd. N.W., Cairo, Georgia 30093, filed with the Federal Energy Regulatory Commission (Commission), an application for determination of exempt wholesale generator status pursuant to Part 365 of the Commission's regulations.

Baconton Power LLC owns four 50 MW (nominal summer rating) dual fuel, simple cycle, combustion turbines located in northeast Mitchell County, south of Albany, Georgia on a 34 acre site approximately one mile northeast of Georgia State Highway 93. Baconton Power LLC previously has been determined to be an EWG but seeks a new determination as a result of certain upstream changes in the ownership of Baconton Power LLC.

Comment Date: July 24, 2002

4. SOWEGA Power LLC

[Docket No. EG02-162-000]

Take notice that on June 26, 2002, SOWEGA Power LLC (SOWEGA), 1499 38th Blvd. N.W., Cairo, Georgia 30093, filed with the Federal Energy Regulatory Commission (Commission), an application for determination of exempt wholesale generator status pursuant to Part 365 of the Commission's regulations. SOWEGA owns two 50 MW (nominal summer rating) dual fuel, simple cycle, combustion turbines located in northeast Mitchell County, south of Albany, Georgia on a 34 acre site approximately one mile northeast of Georgia State Highway 93. SOWEGA previously has been determined to be an EWG but seeks a new determination as a result of certain upstream changes in the ownership of SOWEGA's parent, SOWEGA Energy Resources, LLC.

The notification discloses that upstream ownership interests in SOWEGA's parent, SOWEGA Energy Resources LLC (SER) will change as a result of an internal restructuring involving two of SER's owners. SOWEGA states that these upstream changes in ownership do not alter the continued eligibility of SOWEGA for status as an exempt wholesale generator.

Comment Date: July 24, 2002.

5. State of California v. British Columbia Power Exchange Corp., et al.

[Docket No. EL02-71-002]

Take notice that on June 27, 2002, Avista Corporation (Avista) tendered for filing with the Federal Energy Regulatory Commission (Commission), a compliance filing in accordance with the Order on Complaint issued on May 31, 2002 in the above-captioned proceeding.

Comment Date: July 29, 2002.

6. DTE East China, LLC

[Docket No. ER02-1599-001]

Take notice that on June 27, 2002, DTE East China, LLC tendered for filing with the Federal Energy Regulatory Commission (Commission) under Section 205 of the Federal Power Act revised tariff sheets to sell capacity and energy at negotiated rates up to a cost-based ceiling in compliance with the Commission's June 13, 2002 order in the above-captioned docket.

Comment Date: July 18, 2002.

7. Psi Energy, Inc.

[Docket No. ER02-1666-001]

Take notice that on June 27, 2002, Cinergy Services, Inc. (Cinergy), as agent for PSI Energy, Inc. (PSI), tendered for filing the Tenth Supplemental Agreement to the Interconnection Agreement between Indianapolis Power & Light Company (IPL) and PSI.

On April 26, 2002, Cinergy, as agent for PSI, submitted in this Docket the Seventh Amendment to the Ninth Supplemental Agreement to the Interconnection Agreement between IPL and PSI. The proposed Seventh Amendment provided for the addition of a new interconnection point and a new metering point. However, the proposed Seventh Amendment did not conform with the Commission's requirements regarding the designation of electric rate schedules. Therefore, Cinergy submits the Tenth Supplemental Interconnection Agreement which incorporates the proposed Seventh Amendment, replaces the Ninth Supplemental Interconnection Agreement in its entirety and complies with the numbering provisions of Order 614.

Cinergy states that it has served a copy of the filing upon the Indiana Utility Regulatory Commission and Indianapolis Power & Light Company. Consistent with the April 26, 2002 filing in this Docket, Cinergy respectfully requests an effective date of May 1, 2002.

Comment Date: July 18, 2002.

8. California Independent System Operator Corporation

[Docket No. ER02-2163-000]

Take notice that on June 26, 2002, the California Independent System Operator Corporation (ISO) tendered for filing First Revised Service Agreement No. 368 under ISO Rate Schedule No. 1, which is a Participating Generator Agreement (PGA) between the ISO and Point Arguello Pipeline Company (Point Arguello). The ISO has revised the PGA to update Schedule 1 of the PGA. The ISO requests that the revised PGA be made effective as of June 6, 2002.

The ISO states that this filing has been served on all entities that are on the official service list for Docket No. ER01-1953-000.

Comment Date: July 17, 2002.

9. Maine Public Service Company

[Docket No. ER02-2164-000]

Take notice that on June 26, 2002, Maine Public Service Company (Maine Public) submitted for filing an executed Service Agreement for Network Integration Transmission Service under Maine Public's open access transmission tariff with Eastern Maine Electric Cooperative, Inc.

Comment Date: July 17, 2002.

10. Attala Generating Company, LLC

[Docket No. ER02-2165-00]

Take notice that on June 26, 2002, Attala Generating Company, LLC (Attala) tendered for filing a Power Purchase Agreement for power sales (Agreement) with Attala Energy Company, LLC (Attala energy) pursuant to which Attala will sell electric wholesale services to Attala Energy at market-based rates according to its FERC Electric Tariff, original Volume No. 1.

Comment Date: July 17, 2002.

11. Pennsylvania Windfarms, Inc.

[Docket No. ER02-2166-000]

Take notice that on June 26, 2002, Pennsylvania Windfarms, Inc. tendered for filing an application for authorization to sell energy, capacity and ancillary services at market-based rates pursuant to section 205 of the Federal Power Act.

Comment Date: July 17, 2002.

12. Baconton Power LLC

[Docket No. ER02-2167-000]

Take notice that on June 26, 2002, Baconton Power LLC tendered for filing a Second Amended and Restated Common Bus Common Ownership Agreement with SOWEGA Power LLC. This rate schedule is designated as Second Revised Baconton FERC Rate Schedule No. 1.

Comment Date: July 17, 2002.

13. SOWEGA Power LLC

[Docket No. ER02-2168-000]

Take notice that on June 26, 2002, SOWEGA Power LLC tendered for filing a Second Amended and Restated Common Bus Common Ownership Agreement with Baconton Power LLC. This rate schedule is designated as Second Revised SOWEGA FERC Rate Schedule No. 3.

Comment Date: July 17, 2002.

14. Baconton Power LLC

[Docket No. ER02-2169-000]

Take notice that on June 26, 2002, Baconton Power LLC (Baconton) filed a notice of termination of the First Revised Service Agreement No. 1 under Baconton's FERC Electric Tariff, Volume No. 1, the Amended and Restated Tolling Agreement between Baconton and Coral Power, L.L.C. (Coral). Baconton requests that the termination be made effective on the date Baconton and Coral enter into a new tolling agreement.

Comment Date: July 17, 2002.

15. Aquila, Inc.

[Docket No. ER02-2170-000]

Take notice that on June 26, 2002, Aquila, Inc. d/b/a Aquila Networks-MPS (Aquila), filed with the Federal Energy Regulatory Commission (Commission), pursuant to Section 205 of the Federal Power Act, 16 USC 824d, and Part 35 of the Commission's regulations, Service Agreement No. 22 to Aquila's Market Based Power Sales Tariff (Aquila FERC Electric Tariff No. 28). The service agreement is a Master Power Purchase and Sale Agreement Confirmation between Aquila and its affiliate Aquila Merchant Services, Inc.

Comment Date: July 17, 2002.

16. Public Service Company of New Mexico

[Docket No. ER02-2171-000]

Take notice that on June 28, 2002, Public Service Company of New Mexico (PNM) submitted for filing an executed amended and restated control area services agreement with Texas-New Mexico Power Company (TNMP), under the terms of PNM's Open Access Transmission Tariff. The agreement updates provisions of an existing control area services agreement between PNM and TNMP. PNM requests June 1, 2002, as the effective date for the agreement. PNM's filing is available for public inspection at its offices in Albuquerque, New Mexico.

Copies of the filing have been sent to TNMP, the New Mexico Public Regulation Commission and the New Mexico Attorney General.

Comment Date: July 19, 2002.

17. Auburndale Peaker Energy Center, L.L.C.

[Docket No. ER02-2172-000]

Take notice that on June 27, 2002, Auburndale Peaker Energy Center, L.L.C. filed an executed power marketing agreement under which it will make wholesale sales of capacity and electric energy to Calpine Energy Services, L.P. at market-based rates.

Comment Date: July 18, 2002.

18. Entergy Services, Inc.

[Docket No. ER02-2173-000]

Take notice that on June 27, 2002, Entergy Services, Inc., on behalf of Entergy Louisiana, Inc. (Entergy Louisiana), tendered for filing six copies of a Notice of Termination of the Interconnection and Operating Agreement and Generator Imbalance Agreement between Entergy Louisiana and Occidental Chemical Corporation.

Comment Date: July 18, 2002.

19. Progress Energy, Inc. on behalf of MPC Generating, LLC

[Docket No. ER02-2174-000]

Take notice that on June 27, 2002, MPC Generating, LLC (MPC) tendered for filing an executed Service Agreement between MPC and the following eligible buyer, Progress Ventures, Inc. Service to this eligible buyer will be in accordance with the terms and conditions of MPC's Market-Based Rates Tariff, FERC Electric Tariff No. 1.

MPC requests an effective date of June 1, 2002 for this Service Agreement. Copies of the filing were served upon the North Carolina Utilities Commission, the South Carolina Public Service Commission, and the Georgia Public Service Commission.

Comment Date: July 18, 2002.

20. Ameren Services Company

[Docket No. ER02-2176-000]

Take notice that on June 27, 2002, Ameren Services Company (Ameren Services) tendered for filing an unexecuted Network Operating Agreement and an unexecuted Service Agreement for Network Integration Transmission Service between Ameren Services and Edgar Electric Cooperative Association d/b/a EnerStar Power Corp. (EnerStar). Ameren Services asserts that the purpose of the Agreements is to permit Ameren Services to provide transmission service to EnerStar pursuant to Ameren's Open Access Tariff.

Comment Date: July 18, 2002.

21. South Point Energy Center, LLC

[Docket No.ER02-2177-000]

Take notice that on June 27, 2002, South Point Energy Center, LLC filed a Notice of Cancellation of the Direct Power Transaction Confirmation under its market-based rate schedule in the above-referenced docket number, filed on August 20, 2001.

Comment Date: July 18, 2002.

22. Ameren Services Company

[Docket No.ER02-2179-000]

Take notice that on June 27, 2002, Ameren Services Company (ASC) tendered for filing Service Agreements for Firm Point-to-Point Transmission Service between ASC and Wisconsin Electric Power Company, Weststar Energy and Constellation Power Source (6) (the parties). ASC asserts that the purpose of the Agreements is to permit ASC to provide transmission service to the parties pursuant to Ameren's Open Access Transmission Tariff.

Comment Date: July 18, 2002.

23. Sierra Pacific Power Company

[Docket No. ER02-2180-000]

Take notice that on June 27, 2002, Sierra Pacific Power Company (Sierra) tendered for filing pursuant to Section 205 of the Federal Power Act, an executed Electric Service Agreement (ESA) between Sierra and Pershing County. Under the ESA Sierra will provide wholesale electric service to the Pershing County Electric Utility, which serves the Humboldt River Ranches, a residential development located in rural Western Nevada. The ESA is being filed at the request of Sierra and Pershing County.

Sierra has requested that the Commission accept the ESA and permit service in accordance therewith effective January 15, 2002.

Comment Date: July 18, 2002.

24. Duquesne Light Company

[Docket No. ER02-2181-000]

Take notice that on June 27, 2002, Duquesne Light Company (DLC) filed a Service Agreement for Network Integration Transmission Service and a Network Operating Agreement for Transmission Service dated June 1, 2002 with Orion Power Midwest, L.P. under DLC's Open Access Transmission Tariff (Tariff). The Service Agreement and Network Operating Agreement adds Orion Midwest, L.P. as a customer under the Tariff. DLC requests an effective date of June 1, 2002 for the Service Agreement.

Comment Date: July 18, 2002.

25. Southern Company Services, Inc.

[Docket No. ER02-2182-000]

Take notice that on June 27, 2002, Southern Company Services, Inc., as agent for Alabama Power Company, Georgia Power Company, Gulf Power Company, Mississippi Power Company, and Savannah Electric and Power Company (Southern Companies) tendered for filing the Generator Balancing Service Agreement by and between Duke Energy Trading and Marketing, LLC (Duke) and Southern Companies (the Service Agreement) under Southern Companies' Generator Balancing Service Tariff (FERC Electric Tariff, First Revised Volume No. 9). The Service Agreement supplies Duke with unscheduled energy in connection with sales from Duke Energy Sandersville LLC's electric generating facility as a replacement for unintentional differences between the facility's actual metered generation and its scheduled generation. The Service Agreement (No. 9) is dated as of June 5, 2002, and shall terminate upon twelve months prior written notice of either party.

Comment Date: July 18, 2002.

26. Southern Company Services, Inc.

[Docket No. ER02-2183-000]

Take notice that on June 27, 2002, Southern Company Services, Inc., as agent for Alabama Power Company, Georgia Power Company, Gulf Power Company, Mississippi Power Company, and Savannah Electric and Power Company (Southern Companies) tendered for filing the Generator Balancing Service Agreement by and between Duke Energy Trading and Marketing, LLC (Duke) and Southern Companies (the Service Agreement) under Southern Companies' Generator Balancing Service Tariff (FERC Electric Tariff, First Revised Volume No. 9). The Service Agreement supplies Duke with unscheduled energy in connection with sales from Duke Energy Murray LLC's electric generating facility as a replacement for unintentional differences between the facility's actual metered generation and its scheduled generation. The Service Agreement (No. 8) is dated as of June 5, 2002, and shall terminate upon twelve months prior written notice of either party.

Comment Date: July 18, 2002.

27. WPS Resources Operating Companies

[Docket No. ER02-2184-000]

Take notice that on June 27, 2002, the WPS Resources Operating Companies, on behalf of Wisconsin Public Service Corporation and Upper Peninsula Power Company (collectively, WPS Resources) tendered for filing a notice of cancellation and revised service agreement cover sheets (Cancellation Documents) to terminate service agreements between WPS Resources and its customers. The Cancellation Documents are being filed because WPS Resources is no longer providing service under the service agreements.

WPS Resources respectfully requests that the Commission allow the Cancellation Documents to become effective on June 28, 2002, the day after filing. Copies of the filing were served upon all customers under the WPS Resources open access transmission tariff, the Public Service Commission of Wisconsin and the Michigan Public Service Commission.

Comment Date: July 18, 2002

28. Consumers Energy Company

[Docket No. OA96-77-002]

Take notice that on June 27, 2002, Consumers Energy Company (Consumers) tendered for filing with the Federal Energy Regulatory Commission (Commission), the following substitute tariff sheets as part of its FERC Electric Tariff, Original Volume No. 1 in compliance with the March 27, 2002 order issued in this proceeding. They are being filed to correct certain errors in the original compliance filing dated May 13, 2002.

Substitute First Revised Sheet Nos. 87 and 89 and Substitute Second

Revised Sheet Nos. 86, 88 and 115.

All of the sheets being filed are to become effective January 1, 1999. Copies of the filing were served upon those on the official service list in this proceeding.

Comment Date: July 29, 2002

Standard Paragraph

E. Any person desiring to intervene or to protest this filing should file with the Federal Energy Regulatory Commission, 888 First Street, N.E., Washington, D.C. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-17364 Filed 7-9-02; 8:45 am]

BILLING CODE 6717-01-P